DEPARTMENT OF LABOR

Employment and Training Administration

[TA-W-52,028]

Cutler-Hammer, Inc., a Subsidiary of Eaton Corporation, Brooksville, FL; Notice of Termination of Investigation

Pursuant to section 221 of the Trade Act of 1974, as amended, an investigation was initiated on June 13, 2003 in response to a petition filed by a company official on behalf of workers at Cutler-Hammer, Inc., a subsidiary of Eaton Corporation, Brooksville, Florida.

The petitioner has requested that the petition be withdrawn. Consequently, the investigation has been terminated.

Signed at Washington, DC, this 9th day of July, 2003.
Linda G. Poole,
Certifying Officer, Division of Trade Adjustment Assistance.

[FR Doc. 03-18816 Filed 7-23-03; 8:45 am]

BILLING CODE 4510-30-P